DEPARTMENT OF HOMELAND SECURITY

Coast Guard

33 CFR Part 155

[Docket No. USCG-2011-0576]

RIN 1625-AB75

Higher Volume Port Area—State of Washington

AGENCY: Coast Guard, DHS.

ACTION: Notice of intent.

SUMMARY: The Coast Guard announces that it intends to comply with recent legislation that would expand an existing higher volume port area (HVPA) for Puget Sound and the Strait of Juan de Fuca. The expansion would add Pacific Ocean waters, under U.S. jurisdiction and within a 50-mile arc measured from Cape Flattery, Washington, to the HVPA. Higher volume port areas require certain tankers to plan for faster response times following a spill of the tanker's cargo. The expansion could require a tanker's owner or operator to review and modify the tanker's existing vessel response plan (VRP) accordingly, and to receive Coast Guard approval for the modified VRP by October 15, 2015.

ADDRESSES: The docket for this notice of intent is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0576 in the “Keyword” box, and then clicking “Search.”

FOR FURTHER INFORMATION CONTACT: If you have questions about this notice of intent, call or email LT Evelynn Samms, U.S. Coast Guard Office of Vessel Activities; telephone (202) 372-1225, email Evelynn.B.Samms@uscg.mil. If you have questions on viewing the material in the docket, call Ms. Renee V. Wright, Program Manager, Docket Operations, telephone (202) 366-9826.

SUPPLEMENTARY INFORMATION: A tanker is required by U.S. law and Coast Guard regulations to have a vessel response plan (VRP) if its cargo consists of petroleum or non-petroleum oil, animal fat, and/or vegetable oil. A VRP describes how the tanker prevents, mitigates, or responds to spills of its cargo. See 33 CFR 155.1010, 33 CFR 155.1110, and 33 CFR 155.1210. In describing how the tanker would respond to a spill, the VRP must demonstrate the tanker's ability to deploy specific response resources within one of three different timeframes (Tiers 1 through 3). 33 CFR 155.1020. Those response resources typically include the services of nearby response vessels under a contract between the tanker's owner or operator and an oil spill response organization that owns the response vessel. In 14 higher volume port areas (HVPAs) defined in 33 CFR 155.1020, the risk of a cargo spill is considered higher than normal because of a higher volume of shipping activity in these HVPAs. To offset the increased risk, these HVPAs require faster response times for each Tier.

The Coast Guard Authorization Act of 2010 (“the Act”), Pub. L. 111-281, 124 Stat. 2905, was enacted on October 15, 2010, and provides the authority for issuing this notice of intent. Section 710 of the Act requires the Coast Guard to undertake action that will lead to the expansion of the HVPA in the Strait of Juan de Fuca and Puget Sound, Washington. Expansion would be achieved by moving the seaward boundary of the HVPA, currently a 50-mile arc centered on the entrance to Port Angeles, Washington, westward to Cape Flattery, Washington. Moving the seaward boundary would add Pacific Ocean waters that are under U.S. jurisdiction and within a 50-mile arc measured from Cape Flattery to the Strait of Juan de Fuca and Puget Sound. We added an excerpt from navigation chart 18480, “Approaches to Strait of Juan de Fuca—Destruction Island to Amphitrite Point,” showing the revised HVPA, to the docket.

A currently valid VRP attests to a tanker's ability to comply with HVPA response time requirements within the more sheltered waters of the current HVPA, but the same tanker may need to revise its VRP to account for spill response in the open ocean waters of the future expanded HVPA. There may also be some tankers that do not operate within the current boundaries of the HVPA, but that do operate in the open ocean offshore of those boundaries, and these tankers may need to revise their VRPs to show how they will comply with HVPA requirements once those ocean waters become part of the HVPA.

The Act further requires that, if a VRP needs to be revised in light of the boundary change, the Coast Guard must approve the revision not later than October 15, 2015. Our purpose in issuing this document is to announce our intent to comply with the Act. The HVPA has not yet been expanded; therefore, we cannot require tanker owners and operators to revise VRPs in preparation for expansion at this time. However, if you would be affected by the future expansion of the HVPA and would need a VRP covering the expanded area, we advise you to begin developing a VRP now so that you can submit it in time for Coast Guard review and approval before the mandatory October 15, 2015, deadline.

Dated: November 23, 2011.
Paul F. Thomas,
Captain, U.S. Coast Guard, Acting Director of Prevention Policy.

[FR Doc. 2011-31218 Filed 12-6-11; 8:45 am]

BILLING CODE 9110-04-P